DEPARTMENT OF HEALTH AND HUMAN SERVICES

Health Resources and Services Administration

National Advisory Council on Nurse Education and Practice; Notice of Meeting

In accordance with section 10(a)(2) of the Federal Advisory Committee Act (Pub. L. 92-463), notice is hereby given of the following meetings:

Name: National Advisory Council on Nurse Education and Practice (NACNEP).

Dates and Times: April 22, 2009, 8:30 a.m.-4:30 p.m.

April 23, 2009, 8:30 a.m.-4 p.m.

Place: Doubletree Bethesda Hotel & Executive Meeting Center 8120 Wisconsin Avenue, Bethesda, MD 20814.

Status: The meeting will be open to the public.

Agenda: Agency and Bureau administrative updates will be provided.

Purpose: The purpose of this meeting is to address issues relating to the nursing faculty shortage and its impact on nurse education and practice. The objectives of the meeting are: (1) To analyze achievements toward meeting recommendations that have been suggested to address the faculty shortage put forth in the National Advisory Council on Nurse Education and Practice: Second Report to the Secretary of Health and Human Services and the Congress; (2) to examine strategies instituted to address the faculty shortage; and (3) to address faculty salaries and any barriers to increasing faculty salaries. This meeting is a continuation of the meeting that was held November 2008, which thoroughly addressed the academic preparation of nurse educators.

During this meeting, the NACNEP council members will deliberate on the content presented and formulate recommendations to the Secretary of Health and Human Services and the Congress on the impact the faculty shortage is having on nursing education and practice. Members from professional nursing, public and private organizations will present their initiatives on addressing the nursing faculty shortage. Strategies on how to prepare nursing faculty for their role will be presented. This meeting will form the basis for NACNEP's mandated Ninth Annual Report. The NACNEP will join the Council on Graduate Medical Education (COGME), the Advisory Committee on Training in Primary Care Medicine and Dentistry (ACTPCMD), and the Advisory Committee on Interdisciplinary, Community-Based Linkages (ACICBL) on April 21, 2009 for the second Bureau of Health Professions (BHPr) All Advisory Committee Meeting. Please refer to the Federal Register notice for the BHPr All Advisory Committee Meeting for additional details.

For further information regarding NACNEP, to obtain a roster of members, minutes of the meeting, or other relevant information contact Lakisha Smith, Executive Secretary, National Advisory Council on Nurse Education and Practice, Parklawn Building, Room 8C-26, 5600 Fishers Lane, Rockville, Maryland 20857, telephone (301) 443-5688. Information can also be found at the following Web site: http://bhpr.hrsa.gov/nursing/nacnep.htm

Dated: March 17, 2009.
Alexandra Huttinger,
Director, Division of Policy Review and Coordination.

[FR Doc. E9-6230 Filed 3-20-09; 8:45 am]

BILLING CODE 4165-15-P